COMMITTEE FOR PURCHASE FROM PEOPLE WHO ARE BLIND OR SEVERELY DISABLED

Procurement List; Additions

AGENCY: Committee for Purchase From People Who Are Blind or Severely Disabled

ACTION: Additions to the Procurement List.

SUMMARY: This action adds to the Procurement List commodities and services to be furnished by nonprofit agencies employing persons who are blind or have other severe disabilities.

EFFECTIVE DATE: February 26, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On October 13, November 13, November 24 and December 1, 2000, the Committee for Purchase From People Who Are Blind or Severely Disabled published notices (65 FR 60903, 67714, 70549 and 75241) of proposed additions to the Procurement List.

Additions

The following comments pertain to Laundry Service, Stratton Medical Center, 113 Holland Avenue, Albany, New York.

Comments were received from a Member of Congress, a nonprofit agency and from counsel for the current contractor. The Member claimed that the addition of this service to the Procurement List would reduce the current contractor's revenue substantially and could cause people with disabilities employed by the contractor to lose their jobs. The Member also indicated that the Government might pay higher prices for inferior laundry service.

The nonprofit agency in Utica, New York, was concerned that the loss of the contract would force the current contractor to lay off people who are severely disabled and that this was counter to the purpose of the JWOD Program. Counsel for the current contractor made these same points, noting also that the contractor had been given an award by a local disability organization for its hiring of people with disabilities. This commenter claimed that the original estimated price for the laundry service was based on an unrealistically low estimate of the Government's service requirement. The commenter also claimed that the contractor had become dependent on the revenue from this Government service after providing it for five years. The commenter also indicated the assertion that the nonprofit agency would provide inferior service at a higher price was based on the belief that the nonprofit agency is new to the laundry business.

The nonprofit agency that would be performing the service currently operates a laundry service under a State program for nonprofit agencies employing people with disabilities. The Committee has found the nonprofit agency to be capable of performing the service being added to the Procurement List, based on an assessment by the central nonprofit agency, in which the Government contracting activity concurred, and review by its own staff.

The Government's need for laundry services at this location is declining, as shown by the fact that the contract price for the last full year declined considerably from the previous year. This decline is expected to continue, although not as much as the original estimated price, which has been revised upward, would indicate. The revised estimate, which the Committee is adopting as the fair market price for this service, also reflects supply economies available to the nonprofit agency because of its ability to use Government supply sources when providing this service under the Committee's program.

Laundry service at this location uses the Government's laundry facility in Albany, NY. The current contractor has its own facility in Utica, NY, which is also the location of the disability agency which honored the contractor for its hiring of people with disabilities. Because of the distance between Utica and Albany, it is unlikely that employees with disabilities at the Utica facility are being used to provide services in Albany. Any employees with disabilities at the Government facility in Albany would be offered employment by the nonprofit agency. The commenter indicated that such offers have been made. Consequently, the Committee does not believe that addition of this laundry service to the Procurement List is likely to cause people with disabilities to lose their jobs.

Because the contract price for the last full year of laundry service is lower than the previous year, the percentage of the current contractor's total sales which this laundry service represents is lower than the two commenters claimed. This lower percentage is at a level which the Committee normally considers not to constitute severe adverse impact on a contractor. As indicated above, the Committee believes that had the current contractor continued to provide service for this declining requirement, this percentage would have declined further. The Committee looks at the length of continuous service when assessing the dependency of a contractor on a contract for a service. The current contractor's five years of providing this service have not been continuous, as the contractor did not provide the service between April 15, 1992 and December 1, 1998. Accordingly, the Committee does not believe the contractor could have become seriously dependent on revenues from this laundry service. For this reason, and taking into account the impact considerations discussed in the last paragraph, the Committee has concluded that addition of this laundry service to the Procurement List is not likely to have a severe adverse impact on the current contractor.

The following material pertains to all of the items being added to the Procurement List.

After consideration of the material presented to it concerning capability of qualified nonprofit agencies to provide the commodity and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services being added to the Procurement List.

Accordingly, the following commodity and services are hereby added to the Procurement List:

Commodities

Line, Multi-Loop

1670-01-062-6301

1670-01-062-6303

1670-01-062-6306

1670-01-062-6309

1670-01-062-6312

1670-01-062-6313

1670-01-064-4451

1670-01-064-4452

1670-01-064-4454

1670-01-107-7652

Services

Janitorial/Custodial, Mooers Border Station, Mooers, New York

Janitorial/Custodial, Redden U.S. Federal Courthouse, Fleet Management Center, 310 West 6th Street, Medford, Oregon

Janitorial/Custodial, United States Coast Guard Air Station Borinquen, Aguadilla, Puerto Rico,

Janitorial/Grounds Maintenance, Nininger U.S. Army Reserve Center, Fort Lauderdale, Florida

Laundry Service, Stratton Medical Center, 113 Holland Avenue, Albany, New York

This action does not affect current contracts awarded prior to the effective date of this addition or options that may be exercised under those contracts.

G. John Heyer,
General Counsel.

[FR Doc. 01-2417 Filed 1-25-01; 8:45 am]

BILLING CODE 6353-01-P